DEPARTMENT OF THE INTERIOR

[FWS-R4-ES-2022-N032; FVHC98220410150-XXX-FF04H00000]

Deepwater Horizon Oil Spill Natural Resource Damage Assessment, Florida Trustee Implementation Group: Final Phase V.4 Florida Coastal Access Project: Restoration Plan and Supplemental Environmental Assessment; and Finding of No Significant Impact

AGENCY: Department of the Interior.

ACTION: Notice of availability.

SUMMARY: In accordance with the Oil Pollution Act of 1990 (OPA), the National Environmental Policy Act of 1969 (NEPA), the Deepwater Horizon Oil Spill Final Programmatic Damage Assessment and Restoration Plan and Final Programmatic Environmental Impact Statement (Final PDARP/PEIS), and Consent Decree, the Federal and State natural resource trustee agencies for the Florida Trustee Implementation Group (Florida TIG) have approved the Final Phase V.4 Restoration Plan and Supplemental Environmental Assessment (Final Phase V.4 RP/SEA) and Finding of No Significant Impact (FONSI). In the Final Phase V.4 RP/SEA, the FL TIG selects to fund the fourth phase of the Florida Coastal Access Project through acquisition of the Dickerson Bay parcel: a 114-acre undeveloped coastal inholding in Wakulla County, Florida, within the approved boundary of St. Marks National Wildlife Refuge (NWR). This acquisition will continue the process of restoring natural resources and services injured or lost resulting from the Deepwater Horizon oil spill of 2010. The purpose of this notice is to inform the public of the availability of the Final Phase V.4 RP/SEA and FONSI.

ADDRESSES: Obtaining Documents: You may download the Final Phase V.4 RP/SEA at any of the following sites:

• http://www.doi.gov/deepwaterhorizon

• http://www.gulfspillrestoration.noaa.gov

• http://dep.state.fl.us/deepwaterhorizon/default.htm

Alternatively, you may request a CD of the Final Phase V.4 RP/SEA (see FOR FURTHER INFORMATION CONTACT).

FOR FURTHER INFORMATION CONTACT: Nanciann Regalado, at nanciann_regalado@fws.gov, or via telephone at 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

The Florida Coastal Access Project was selected for funding and implementation in Phase V of Deepwater Horizon early restoration. In the 2011 Framework Agreement for Early Restoration Addressing Injuries Resulting from the Deepwater Horizon Oil Spill (Framework Agreement), BP agreed to provide to the Trustees up to $1 billion toward early restoration projects in the Gulf of Mexico to address injuries to natural resources caused by the Deepwater Horizon oil spill. The Framework Agreement represented a preliminary step toward the restoration of injured natural resources and was intended to expedite the start of restoration in the Gulf in advance of the completion of the injury assessment process. In the five phases of the early restoration process, the Trustees selected, and BP Exploration and Production, Inc. (BP) agreed to fund, a total of 65 early restoration projects expected to cost a total of approximately $877 million, including the Florida Coastal Access Project for approximately $45.4 million. The Trustees selected these projects after public notice, public meetings, and consideration of public comments.

The Consent Decree terminated and replaced the Framework Agreement and provided that the Trustees shall use remaining early restoration funds as specified in the early restoration plans and in accordance with the Consent Decree. The Trustees have determined that decisions concerning any unexpended early restoration funds are to be made by the appropriate TIG, in this case the Florida TIG.

A notice of availability of the Draft Phase V.4 Restoration Plan and Supplemental Environmental Assessment was published in the Federal Register on April 18, 2022 (87 FR 22937). The public was provided with a period to review and comment on the Draft Restoration Plan, from April 18, 2022, through May 20, 2022. A webinar was held for the public on May 10, 2022, and an in-person public meeting was held on May 12, 2022, in Panacea, Florida. The Florida TIG considered the public comments received, which informed the TIG's analyses and selection of the preferred restoration alternative, the Dickerson Bay Addition, in the Final Phase V.4 RP/SEA. A summary of the public comments received, and the Florida TIG's responses to those comments, are addressed in Chapter 5 of the Final Phase V.4 RP/SEA. The FONSI is included as Appendix C of the Final Phase V.4 RP/SEA.

Background

On April 20, 2010, the mobile offshore drilling unit Deepwater Horizon, which was being used to drill a well for BP in the Macondo prospect (Mississippi Canyon 252-MC252), experienced a significant explosion, fire, and subsequent sinking in the Gulf of Mexico, resulting in an unprecedented volume of oil and other discharges from the rig and from the wellhead on the seabed. The Deepwater Horizon oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under OPA. Pursuant to OPA (OPA; 33 U.S.C. 2701 et seq.), Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the Trustees reached and finalized a settlement of their natural resource damage claims with BP in a Consent Decree approved by the United States District Court for the Eastern District of Louisiana. Pursuant to that Consent Decree, restoration projects in the Florida Restoration Area are now chosen and managed by the Florida TIG. The Florida TIG is composed of the following six Trustees: State of Florida Department of Environmental Protection and Fish and Wildlife Conservation Commission; DOI; NOAA; EPA; and USDA.

Overview of the FL TIG's Final Phase V.4 RP/SEA

The Final Phase V.4 RP/SEA/FONSI is being released in accordance with OPA, NRDA regulations found in the Code of Federal Regulations (CFR) at 15 CFR part 990, NEPA, the Consent Decree, the Final PDARP/PEIS, and the Final Phase V ERP/EA. The Phase V.4 RP/SEA provides an OPA analysis for the proposed fourth phase of the Florida Coastal Access Project and supplements the NEPA analysis completed in the first, second, and third phases of the project (2016 Final Phase V Early Restoration Plan and Environmental Assessment, 2017 Final Phase V.2 Restoration Plan and Supplemental Environmental Assessment, and 2019 Final Phase V.3 Restoration Plan and Supplemental Environmental Assessment, respectively). In the Final Phase V.4 RP/SEA, the Florida TIG selects to fund the fourth phase of the Florida Coastal Access Project to address lost recreational opportunities caused by the Deepwater Horizon oil spill in the Florida Restoration Area, through the acquisition of the Dickerson Bay Addition: a 114-acre coastal inholding parcel in Wakulla County within the approved boundary of St. Marks National Wildlife Refuge. The cost to carry out the Dickerson Bay Addition is approximately $685,000. Details on the fourth phase of the project are provided in the Final Phase V.4 RP/SEA. Additional restoration planning for the Florida Restoration Area will continue.

Administrative Record

The documents comprising the administrative record for the Final Phase V.4 RP/SEA can be viewed electronically at http://www.doi.gov/deepwaterhorizon/administrativerecord.

Authority

The authority of this action is the Oil Pollution Act of 1990 (33 U.S.C. 2701 et seq.), and its implementing Natural Resource Damage Assessment regulations found at 15 CFR part 990, and the National Environmental Policy Act of 1969 (42 U.S.C. 4321 et seq.).

Mary Josie Blanchard,
Department of the Interior, Director of Gulf of Mexico Restoration.

[FR Doc. 2022-15029 Filed 7-19-22; 8:45 am]

BILLING CODE 4333-15-P